COMMITTEE FOR PURCHASE FROM PEOPLE WHO ARE BLIND OR SEVERELY DISABLED

Procurement List; Deletions

AGENCY: Committee for Purchase From People Who are Blind or Severely Disabled.

ACTION: Deletions from the Procurement List.

SUMMARY: This action deletes products from the Procurement List that were previously furnished by nonprofit agencies employing persons who are blind or have other severe disabilities.

DATES: Effective Date: February 28, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 12/18/2015 (80 FR 79031-79032), the Committee for Purchase From People Who Are Blind or Severely Disabled published notice of proposed deletions from the Procurement List.

After consideration of the relevant matter presented, the Committee has determined that the products listed below are no longer suitable for procurement by the Federal Government under 41 U.S.C. §§ 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. §§ 8501-8506) in connection with the products deleted from the Procurement List.

End of Certification

Accordingly, the following products are deleted from the Procurement List:

Products

Product Name(s)—NSN(s): Hood, Spray Painters Protective—4240-LL-L08-5010

Mandatory Source(s) of Supply: Goodwill Contract Services of Hawaii, Inc., Honolulu, HI

Contracting Activity: Dept of the Navy, Pearl Harbor Naval Shipyard IMF, Pearl Harbor, HI

Product Name(s)—NSN(s): Paper, Mimeograph and Duplicating—7530-00-285-3060 Paper, Bond & Writing—7530-00-160-9165, 7530-00-515-1086

Mandatory Source(s) of Supply: Louisiana Association for the Blind, Shreveport, LA

Contracting Activity: General Services Administration, New York, NY

Product Name(s)—NSN(s): Pen, Ball Point, Retractable, BIO-WRITE, Ergonomic, Cushion Grip, 7520-01-424-4854—Blue Ink, Medium Point, 7520-01-424-4856—Black Ink, Fine Point, 7520-01-424-4873—Blue Ink, Fine Point, 7520-01-424-4876—Black Ink, Medium Point

Mandatory Source(s) of Supply: Industries for the Blind, Inc., West Allis, WI, Industries of the Blind, Inc., Greensboro, NC

Contracting Activity: General Services Administration, New York, NY

Barry S. Lineback,
Director, Business Operations.

[FR Doc. 2016-01705 Filed 1-28-16; 8:45 am]

BILLING CODE 6353-01-P